DEPARTMENT OF THE INTERIOR

National Park Service

[N6444; NPS-WASO-NAGPRA-NPS0040854; PPWOCRADN0-PCU00RP14.R50000]

Notice of Inventory Completion: New York University, College of Dentistry, New York, NY

AGENCY: National Park Service, Interior.

ACTION: Notice.

SUMMARY: In accordance with the Native American Graves Protection and Repatriation Act (NAGPRA), New York University, College of Dentistry (NYUCD) has completed an inventory of human remains and has determined that there is a cultural affiliation between the human remains and Indian Tribes or Native Hawaiian organizations in this notice.

DATES: Repatriation of the human remains in this notice may occur on or after September 22, 2025.

ADDRESSES: Send written requests for repatriation of the human remains in this notice to Gabriel Friedman, Senior Project Lead, Office of the Provost, New York University, 70 Washington Square South, New York, NY 10012, email nagpra@nyu.edu.

SUPPLEMENTARY INFORMATION: This notice is published as part of the National Park Service's administrative responsibilities under NAGPRA. The determinations in this notice are the sole responsibility of NYUCD, and additional information on the determinations in this notice, including the results of consultation, can be found in its inventory or related records. The National Park Service is not responsible for the determinations in this notice.

Abstract of Information Available

Human remains representing at least one individual has been identified. No associated funerary objects are present. In 1920, the human remains were excavated by Ralph Glidden from Santa Catalina Island in Los Angeles County, California as part of an archaeological expedition sponsored by the Museum of the American Indian, Heye Foundation and the Field Museum of Natural History (NMAI Archives, Box OC 126, Folder 27). The human remains were accessioned by the Department of Physical Anthropology of the Museum of the American Indian that same year. In 1956, the remains were transferred to Dr. Theodore Kazamiroff, NYUCD. A Notice of Inventory Completion published on October 11, 2022 in the Federal Register (87 FR 61363), describes eight Ancestors that were under the possession and control of NYUCD, removed from Santa Catalina and acquired by NYUCD under the same circumstances described above. These Ancestors were legally transferred and physically returned to the Tribes in December 2022. The Ancestor identified in this Inventory was identified in collection in February 2025.

Based on the available information, a relationship of shared group identity can be identified reasonably between the geographical location and the culturally affiliated Indian Tribes. Santa Catalina Island, Los Angeles County, California is within the aboriginal and ancestral homeland of the culturally affiliated Indian Tribes. NYUCD has no knowledge or record of the presence of any potentially hazardous substances used to treat the human remains.

Cultural Affiliation

Based on the information available and the results of consultation, cultural affiliation is reasonably identified by the geographical location or acquisition history of the human remains described in this notice.

Determinations

NYUCD has determined that:

• The human remains described in this notice represent the physical remains of one individual of Native American ancestry.

• There is a reasonable connection between the human remains and the La Jolla Band of Luiseno Indians, California; Pala Band of Mission Indians; Pechanga Band of Indians (previously listed as Pechanga Band of Luiseno Mission Indians of the Pechanga Reservation, California); Rincon Band of Luiseno Mission Indians of Rincon Reservation, California; Santa Ynez Band of Chumash Mission Indians of the Santa Ynez Reservation, California; and the Soboba Band of Luiseno Indians, California.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after September 22, 2025. If competing requests for repatriation are received, NYUCD must determine the most appropriate requestor prior to repatriation. Requests for joint repatriation of the human remains are considered a single request and not competing requests. NYUCD is responsible for sending a copy of this notice to the Indian Tribes and Native Hawaiian organizations identified in this notice and any other consulting parties.

Authority: Native American Graves Protection and Repatriation Act, 25 U.S.C. 3003, and the implementing regulations, 43 CFR 10.10.

Dated: August 6, 2025.
Melanie O'Brien,
Manager, National NAGPRA Program.

[FR Doc. 2025-15975 Filed 8-20-25; 8:45 am]

BILLING CODE 4312-52-P